DEPARTMENT OF THE INTERIOR

Fish and Wildlife Service

[FWS-R1-R-2010-N111; 1265-0000-10137]

Lewis and Clark National Wildlife Refuge and the Julia Butler Hansen Refuge for the Columbian White-tailed Deer

AGENCY: Fish and Wildlife Service, Interior.

ACTION: Notice of availability: final comprehensive conservation plan and environmental impact statement.

SUMMARY: We, the U.S. Fish and Wildlife Service (Service), announce the availability of the final comprehensive conservation plan and environmental impact statement (final CCP/EIS) for the Lewis and Clark National Wildlife Refuge and the Julia Butler Hansen Refuge for the Columbian White-tailed Deer (refuge or collectively, refuges). These refuges are located in Wahkiakum County, Washington, and Clatsop and Columbia Counties, Oregon. In the final CCP/EIS, we describe how we propose to manage these refuges for the next 15 years.

DATES: We will sign a record of decision no sooner than 30 days after publication of this notice.

ADDRESSES: You may view or request copies of the final CCP/EIS by any of the following methods. You may request a printed copy or CD-ROM.

Agency Web Sites: Download a copy of the document at http://www.fws.gov/lc/ or http://www.fws.gov/jbh/.

E-mail: FW1Planning@fws.gov. Include “Lewis and Clark and Julia Butler Hansen Final CCP/EIS” in the subject line of the message.

Mail: Willapa National Wildlife Refuge Complex, 3888 SR 101, Ilwaco, WA 98624.

Fax: (360) 484-3109.

In person viewing: Copies of the final CCP/EIS may be viewed at the Willapa National Wildlife Refuge Complex, 3888 SR 101, Ilwaco, WA 98624; and the Julia Butler Hansen Refuge for the Columbian White-tailed Deer, 46 Steamboat Slough Road, Cathlamet, WA 98612.

Local Libraries: The final documents are available for review at the libraries listed under SUPPLEMENTARY INFORMATION.

FOR FURTHER INFORMATION CONTACT: Charlie Stenvall, (360) 484-3482.

SUPPLEMENTARY INFORMATION:

Introduction

With this notice, we announce the availability of the final CCP/EIS for the refuges. We started this process through a notice in the Federal Register (71 FR 55214; September 21, 2006). We released the draft CCP/EIS to the public, announcing and requesting comments in a notice of availability in the Federal Register (75 FR 6694; February 10, 2010).

The Lewis and Clark National Wildlife Refuge was established in 1972 to preserve vital fish and wildlife habitat of the Columbia River estuary. The refuge's riverine islands encompass a variety of habitat types, from tidal sand flats and marshes to forested swamps. This combination of habitats supports large numbers of waterfowl, gulls, terns, wading birds, shorebirds, and a variety of raptors and songbirds. The Lewis and Clark Refuge islands are only accessible by boat and include 18 named islands, a number of unnamed islands, and marshes stretching over 25 miles of the Columbia River.

The Julia Butler Hansen Refuge for the Columbian White-tailed Deer was established in 1971 to protect and manage the endangered Columbian white-tailed deer. The refuge contains over 6,000 acres of pastures, forested tidal swamps, brushy woodlots, marshes, and sloughs along the Columbia River.

The final CCP/EIS was completed in accordance with National Environmental Policy Act (40 CFR 1506.6(b)) and National Wildlife Refuge System Administration Act of 1966 (16 U.S.C. 668dd-668ee) requirements. We completed a thorough analysis of impacts on the human environment, which we included in the final EIS for the CCP. The CCP will guide us in managing and administering the refuges for the next 15 years.

We analyzed two alternatives for future management of the Lewis and Clark National Wildlife Refuge and three alternatives for future management of the Julia Butler Hansen Refuge for the Columbian White-tailed Deer. Alternative 2 is our preferred alternative for both refuges, and is the foundation for the CCP. We addressed public comments on the draft CCP/EIS in the final CCP/EIS.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction for conserving wildlife and their habitats, CCPs identify wildlife-dependent recreational opportunities available to the public, including opportunities for hunting, fishing, wildlife observation and photography, and environmental education and interpretation. We will review and update the CCP at least every 15 years in accordance with the Refuge Administration Act.

CCP Alternatives We Are Considering

Lewis and Clark Refuge Alternative 1

No changes to the current refuge management programs would occur under Alternative 1. Habitat management would consist of monitoring refuge islands and treating invasive plant infestations as funding allows. Refuge staff members would continue to protect and maintain wintering and foraging habitat for migratory waterfowl, and nesting and roosting habitat for bald eagles. Existing public uses, including hunting, fishing, and wildlife observation and photography, would continue at current levels.

Lewis and Clark Refuge Alternative 2

Under Alternative 2 (the preferred alternative), current wildlife and habitat management would be maintained. Key refuge enhancements would include establishing or expanding partnerships for managing invasive species, recruiting graduate students to conduct wildlife and habitat research, and exploring options for managing Oregon Department of State Lands property within the approved refuge boundary. The refuge would also expand opportunities for wildlife observation and photography, study potential wilderness lands, and work with partners to ensure that dredge-spoil islands provide benefits for wildlife.

Julia Butler Hansen Refuge Alternative 1

Under Alternative 1, no changes to the current refuge management programs would occur at Julia Butler Hansen Refuge. We would continue to maintain and protect habitats, establish early successional riparian forest habitat, maintain predator management January through April, and continue wildlife-dependent public use programs.

Julia Butler Hansen Refuge Alternative 2

Refuge management changes under Alternative 2 (the preferred alternative) would include opening Crims and Price Islands to waterfowl hunting, closing portions of refuge lands along the lower Elochoman River to waterfowl hunting for public safety purposes, studying potential wilderness lands, developing two trails, and improving interpretive media. To achieve the recovery goals for the Columbian white-tailed deer, predator management would take place on an as-needed basis year-round under this alternative. We would also expand the Columbian white-tailed deer population by establishing an experimental population upriver.

Julia Butler Hansen Refuge Alternative 3

Refuge management changes under Alternative 3 would include opening Crims and Price Islands to waterfowl hunting, closing portions of refuge lands along the lower Elochoman River to waterfowl hunting for public safety purposes, studying potential wilderness lands, developing a bicycling and hiking trail, installing interpretive panels, and developing curriculum for refuge study sites. To achieve the recovery goals for the Columbian white-tailed deer, predator management would take place January through August under this alternative.

Comments

We solicited comments on the Draft CCP/EIS from February 10, 2010, to April 12, 2010. Public comments were considered and addressed in the final CCP/EIS, resulting in only minor changes to the final document.

Public Availability of Documents

In addition to the methods in ADDRESSES, you can view documents at the following libraries:

• Blanch Bradley Library, 100 Main Street, Cathlamet, WA 98612.

• Astoria Public Library, 450 10th Street, Astoria, OR 97103.

• Clatskanie Library District, 11 Lillich Street, Clatskanie, OR 97016.

• Ilwaco Timberline Regional Library, 158 1st Ave. Ilwaco, WA 98624.

• Longview Public Library, 1600 Louisiana Street, Longview, WA 98632.

• Fort Vancouver Regional Library, 1007 E. Mill Plain Blvd., Vancouver WA 98663.

Dated: June 10, 2010.
Carolyn A. Bohan,
Acting Regional Director, Region 1, Portland, Oregon.

[FR Doc. 2010-19803 Filed 8-12-10; 8:45 am]

BILLING CODE 4310-55-P